DEPARTMENT OF VETERANS AFFAIRS

Research Advisory Committee on Gulf War Veterans' Illnesses; Notice of Meeting

The Department of Veterans Affairs (VA) gives notice under the Federal Advisory Committee that the Research Advisory Committee on Gulf War Veterans' Illnesses will meet on Thursday October 3, 2019, and Friday October 4, 2019, at The Hyatt Regency San Francisco Airport, Cypress Room A, 1333 Bayshore Highway, Burlingame, CA 94010. On Thursday the meeting will convene at 9 a.m. and end at 5 p.m. (PDT). On Friday the meeting will convene at 8:30 a.m. and end at 12:00 p.m. (EST). All sessions will be open to the public, and for interested parties who cannot attend in person, there is a toll-free telephone number (800) 767-1750; access code 56978# or Adobe Connect URL: http://va-eerc-ees.adobeconnect.com/racgwvi-oct2019/.

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses and updates on relevant scientific research published since the last Committee meeting. Presentations will include updates on the VA Gulf War research program, presentations from VA-funded researchers and subject matter experts in the areas of health and generational effects of serving in the Gulf War. Also, there will be Committee training and a discussion of Committee business and activities.

The meeting will include time reserved for public comments 30 minutes before close of meeting. A signup sheet for 5-minute comments will be available at the meeting. Individuals who wish to address the Committee may submit a 1-2 page summary of their comments for inclusion in the official meeting record. Members of the public may submit written statements for the Committee's review or seek additional information by contacting Dr. Block, Designated Federal Officer, at (202) 443-5600, or by email at karen.block@va.gov.

Dated: August 21, 2019.
LaTonya L. Small,
Federal Advisory Committee Management Officer.

[FR Doc. 2019-18343 Filed 8-26-19; 8:45 am]

BILLING CODE 8320-01-P